NUCLEAR REGULATORY COMMISSION

10 CFR Chapter I

[NRC-2017-0181]

Identifying and Reporting Human Performance Incidents

AGENCY: Nuclear Regulatory Commission.

ACTION: Draft regulatory issue summary; withdrawal.

SUMMARY: The U.S. Nuclear Regulatory Commission (NRC) is withdrawing the draft regulatory issue summary (RIS), RIS 2017-XX, “Identifying and Reporting Human Factor Incidents.” This document is being withdrawn because after further consideration, the NRC determined that the RIS did not provide the clarification intended regarding licensees' required reporting of human performance incidents.

DATES: The withdrawal of draft RIS 2017-XX, “Identifying and Reporting Human Factor Incidents” is effective as of September 7, 2018.

ADDRESSES: Please refer to Docket ID NRC-2017-0181 when contacting the NRC about the availability of information regarding this document. You may obtain publicly-available information related to this document using any of the following methods:

• Federal Rulemaking website: Go to http://www.regulations.gov and search for Docket ID NRC-2017-0181. Address questions about NRC dockets to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The draft RIS, “Identifying and Reporting Human Factor Incidents” is available in ADAMS under Accession No. ML16029A010.

• NRC's PDR: You may examine and purchase copies of public documents at the NRC's PDR, Room O1-F21, One White Flint North, 11555 Rockville Pike, Rockville, Maryland 20852.

FOR FURTHER INFORMATION CONTACT: Carmen Franklin, Office of Nuclear Regulatory Research, telephone: 301-415-2386, email: Carmen.Franklin@nrc.gov and Alexander Schwab, Office of Nuclear Reactor Regulation, telephone: 301-415-8539, email: Alexander.Schwab@nrc.gov. Both are staff of the U.S. Nuclear Regulatory Commission, Washington, DC 20555-0001.

SUPPLEMENTARY INFORMATION: The NRC is withdrawing draft RIS 2017-XX, “Identifying and Reporting Human Factor Incidents” because after further consideration, the NRC determined that the RIS did not provide the clarification intended regarding licensees' required reporting of human performance incidents “Licensee event report system” under § 50.73 of title 10 of the Code of Federal Regulations (CFR).

Dated at Rockville, Maryland, this 31st day of August 2018.
For the Nuclear Regulatory Commission.
Bo Pham,
Branch Chief, ROP Support and Generic Communications Branch, Division of Inspection and Regional Support, Office of Nuclear Reactor Regulation.

[FR Doc. 2018-19369 Filed 9-6-18; 8:45 am]

BILLING CODE 7590-01-P